DEPARTMENT OF STATE

22 CFR Part 62

RIN 1400-AC56

[Public Notice: 6982]

Exchange Visitor Program—Secondary School Students

AGENCY: Department of State.

ACTION: Proposed rule with request for comment.

SUMMARY: The Department of State is proposing to amend existing regulations to impose new program administration requirements within the secondary school student exchange program. These regulations govern Department designated exchange visitor programs under which foreign secondary school students (ages 15-18½) are afforded the opportunity to study in the United States at accredited public or private secondary schools for an academic semester or an academic year while living with American host families or residing at accredited U.S. boarding schools. Specifically, the Department is proposing to amend existing regulations regarding the screening, selection, school enrollment, orientation, and quality assurance monitoring on behalf of student participants; and the screening, selection, orientation, and quality assurance monitoring of host families and field staff. The purpose of this rule is to solicit public comment regarding these proposed changes that are offered to address the need for greater clarity in current existing regulatory language. The Department's objective is to better protect the health, safety, and welfare of these participants though enhanced clarity of existing regulations. Due to the academic calendar and the screening and selection cycle for the conduct of the Secondary School Student program, the comment period of this proposed rule has been set to 30 days from the date of publication. Concerns regarding the safety and welfare of secondary school student population necessitate a shorter comment period. To provide sponsors with sufficient time to prepare for implementation of changes in program administration to be effective in the academic year 2011/2012, the Department would like to accelerate this rulemaking.

DATES: The Department will accept comments from the public up to June 2, 2010.

ADDRESSES: You may submit comments, numbered by topic by any of the following methods:

• Persons with access to the Internet may view this notice and provide comments by going to the regulations.gov Web site at: http://www.regulations.gov/index.cfm.

• Mail (paper, disk, or CD-ROM submissions): U.S. Department of State, Office of Designation, SA-5, Floor 5, 2200 C Street, NW., Washington, DC 20522-0505.

• E-mail: JExchanges@state.gov. You must include the title (Exchange Visitor Program—Secondary School Students) and RIN (1400-AC56) in the subject line of your message.

FOR FURTHER INFORMATION CONTACT: Stanley S. Colvin, Deputy Assistant Secretary for Private Sector Exchange, U.S. Department of State, SA-5, Floor 5, 2200 C Street, NW., Washington, DC 20522-0505; or e-mail at JExchanges@state.gov.

SUPPLEMENTARY INFORMATION:

Comments

The Department has identified sixteen areas, as numbered in the Supplementary text of this document. In your response, comments should be numbered to coincide with the sixteen areas.

Background

The Department has authorized Secondary School Student programs since 1949, following passage of the United States Information and Educational Exchange Act of 1948 and adoption of 22 CFR part 68—Exchange Visitor Program, establishing a student exchange program (14 FR 4592, July 22, 1949). Over the last 60 years, more than 850,000 foreign exchange students have lived in and learned about America through these Secondary School Student programs.

In 1993, the United States Information Agency, the predecessor agency with oversight of the Exchange Visitor Program, substantially rewrote the regulations governing the Exchange Visitor Program, including the Secondary School Student category (See 58 FR 15196, Mar. 19, 1993, as amended at 59 FR 34761, July 7, 1994, redesignated at 64 FR 54539, Oct. 7, 1999.) Since that time, significant changes in the makeup of the American family and widespread access to new technologies have necessitated additional updates to these regulations. In 2006, the Department adopted new regulations set forth at 22 CFR 62.25 to require Secondary School Student program sponsors to complete criminal background checks on all officers, employees, agents, representatives and volunteers acting on their behalf who had direct contact with exchange students and to require program sponsors to contact host families and students monthly. The Department also required sponsors to ensure that all adult members of a host family household (age 18 or older) to undergo criminal background checks prior to placing an exchange student in the home. Sponsors must also report any allegation of sexual misconduct or any other allegations of abuse or neglect to both the Department and local law enforcement authorities as required in that jurisdiction (see http://www.childwelfare.gov for a list by State of child abuse and neglect statutes) (71 FR 16696, April 4, 2006).

The great majority of exchange students who come to the United States to attend high school enjoy a positive life-changing experience, grow in independence and maturity, improve their English language skills, and build relationships with U.S. citizens. As with other Exchange Visitor Program categories, the underlying purpose of the Secondary School Student Program is to further U.S. diplomatic and foreign policy goals by encouraging this positive academic and social interaction. Experience has shown that these students will share the knowledge and goodwill derived from their exchanges with their fellow citizens upon return to their home countries. Information on Department of State sponsored exchange programs can be found at http://exchanges.state.gov/program evaluations/completed.html.

While the vast majority of the Department's nearly 28,000 annual exchanges of secondary school students conclude with positive experiences for both the exchange student and the American host families, a number of incidents have occurred recently with respect to student placement and oversight which demand the Department's immediate attention. The success of the Secondary School Student program is dependent on the generosity of the American families who support this program by welcoming foreign students into their homes. The number of qualified foreign students desiring to come to the United States for a year of high school continues to rise and student demand is now placing pressure on the ability of sponsors to identify available and appropriate host family homes. The Department desires to provide the means to permit as many exchange students into the United States as possible so long as we can ensure their safety and welfare, which is our highest priority.

The Department also recognizes that local coordinators, who serve as representatives (employees or volunteers) of the Secondary School Student program sponsors and who have responsibility for obtaining school enrollment and locating and recruiting host families, are the critical link to a successful exchange program. Local coordinators exercise a degree of independent judgment when determining whether a potential host family is capable of providing a comfortable and nurturing home environment for a secondary school student, whether that family is an appropriate match for the student, and whether it has adequate financial resources to undertake hosting obligations. Accordingly, the Department proposes the adoption of an annual testing and certification program for all local and regional coordinators that will entail, inter alia, specifying more clearly the Department's regulatory requirements as well as requiring specific training for the local and regional coordinators engaged by the sponsor organizations.

This program is recognized as one of the Department's most valued exchange initiatives. The Department believes that enhanced specificity in the regulations and the establishment of minimum industry standards will improve the placement of students and promote the health, safety and well-being of this most vulnerable group of exchange visitors. The Department, the Congress, the American public, and members of the exchange community share the same goal of ensuring a safe and positive exchange experience for every foreign student invited to participate in this exchange program. To that end, the Department has engaged in a series of actions and outreach to focus the Secondary School Student exchange industry on best practices and continued improvement in selection and monitoring of host families and students.

Prior to the development of this proposed rule, the Department published an Advance Notice of Proposed Rulemaking (ANPRM) in the Federal Register to solicit comments from sponsors and the general public on current best practices in the industry. (See 74 FR 45385, Sept. 2, 2009). The ANPRM focused on six areas: (1) Utilization of standard information on a sponsor developed host family application form; (2) requirement for photographs of all host family homes (to include the student's bedroom, living areas, kitchen, outside of house and grounds) as a part of the host family application process; (3) the appropriateness of host family references from family members or local coordinators, and the feasibility of obtaining one reference from the school in which the student is enrolled; (4) whether fingerprint-based criminal background checks should be required of all adult host family members and sponsor officers, employees, representatives, agents and volunteers who come, or may come, into direct contact with the student and whether guidelines regarding the interpretation of criminal background checks are needed; (5) the establishment of baseline financial resources for potential host families; and (6) the establishment of limitations on the composition of potential host families.

In light of the 97 comments submitted in response to the ANPRM, the Department has identified sixteen areas that we believe will enhance the safety and welfare of foreign secondary school students studying in the United States. To effectively implement these changes, additional regulations are necessary. The following is an explanation of the proposed regulatory changes on which we invite comments:

1. Standard Host Family Application Form

The Department recognizes that many sponsors have invested significantly in technology to develop proprietary host family applications and application processing systems. The current sponsor-specific application formats vary but the Department has determined that they all collect information responsive to regulatory requirements. Accordingly, the Department believes that a Department-mandated and designed standard application form for all potential host families is not needed. However, to assist exchange sponsors in their current or future development or amendment of application forms, the Department has compiled a list of information fields, the collection of which it deems a best practice. This list is set forth at Appendix F—“Information to be collected on Secondary School Student Host Family Applications”—of this rulemaking.

2. Requiring Photographs of the Host Family Home

The Department finds that photographing potential host family homes is already a standard practice with more than half of existing secondary student exchange sponsors. Many of the sponsors who commented on the recent ANPRM indicated that they find providing photographs of the home to be a reasonable requirement and an industry “best practice” to prevent secondary school students from being placed in unhealthy environments. The Department concurs and proposes that all sponsors photograph the exterior, kitchen, student's bedroom, bathroom, and family or living room of the potential host family's home.

3. Personal Character References for Host Family Applicants

Under this proposal, host family members and sponsor representatives will not be permitted to serve as character references for potential host families. Further, the Department has determined that obtaining a character reference from local school officials is not feasible, raises certain privacy concerns, and should thus no longer be required.

4. Measuring Host Family Financial Resources

The Department has determined that regional differences in incomes and standards of living prevent adoption of a requirement that potential host families have a minimum household income. Such a requirement would not fairly or accurately reflect cost of living differences for families in urban, suburban, exurban and rural areas. Nor would such a requirement guarantee the adequacy of the care the student would receive. However, the Department does not deem appropriate the placement of Secondary School Student exchange participants with host families receiving financial needs-based government subsidies for food or housing which are necessary to meet basic living needs. Such families, by definition, lack sufficient financial resources to meet fully the financial obligations associated with hosting exchange students. It is recognized, however, that there could be a “needs-based subsidy for food or housing” whose beneficiaries could be capable of caring for an exchange student and the Department is therefore soliciting public comment on how best to define the phrase “needs-based” in this context.

To assist sponsors in their required assessment of a potential family's ability to undertake hosting obligations, the Department finds it appropriate for Secondary School Student program sponsors to obtain objective information on household income to help determine the financial capability of potential families to host an exchange student. The Department believes this objective measurement can be achieved through collecting certain information on the host family application form, already a current practice of many sponsors. Accordingly, the Department proposes that sponsors query potential host families regarding household income and include a box on the host family application form denoting annual household income level in broad ranges (less than $25,000; $25, 000-$35,000; $35,000-$45,000; $45,000-$55,000; $55,000-$65,000; $65,000-$75,000; and $75,000 and above). In evaluating host family resources, sponsors need to be mindful of the host family's obligation to provide three quality meals per day and ensure transportation for the exchange student to and from school and school activities.

5. Criminal Background Checks

The Department has conducted significant analysis of this proposed criminal background check requirement and recognizes that, to date, no single criminal background check, or combination of criminal background checks, has been identified as guaranteeing that a potential host family member has no record of any serious or other encounters with U.S. county, State or Federal criminal justice systems (hereinafter “criminal record”). The Department currently requires a private vendor name and social security number check of all potential host family adults and proposes to expand this requirement to include an FBI fingerprint-based criminal background check and a check of the National Sex Offender Registry for each potential host family adult. The Congress has recognized the importance of FBI fingerprint-based criminal background checks as part of a screening process for adults working with children on a professional or volunteer basis, and created the Child Safety Pilot Program. This Pilot Program provides youth-serving volunteer organizations access to the FBI master criminal history database for the purpose of vetting potential volunteers or employees. The Mentor organization, an NGO devoted to assisting youth-serving volunteer organizations and a participant in the Child Safety Pilot Program, has found the following since joining the pilot program:

“Of the nearly 69,000 volunteers screened during the pilot, more than 6 percent had criminal records of concern, including serious crimes such as murder, rape and child sexual abuse. Furthermore, more than 41 percent of individuals with criminal records of concern had committed crimes in States other than where they were applying to volunteer—meaning only a nationwide check would have caught the criminal records.” http://www.mentoring.org/take_action/advocate_for_mentoring/background_checks/fact_sheet/.

The Department notes that there must exist sufficient statutory authority for organizations to obtain FBI authorization to access the FBI master criminal history database. The Child Safety Pilot Program, which is administered by the National Center for Missing and Exploited Children (NCMEC) and codified at 42 U.S.C. 5119, extends the opportunity to access FBI-fingerprint-based criminal background checks to the Boys and Girls Clubs of America, the National Council of Youth Sports, the Mentor pilot program, as well as “any nonprofit organization that provides care, as that term is defined in section 5 of the National Child Protection Act of 1993 (42 U.S.C. 5119c) for children.” Care is defined at 42 U.S.C. 5119c as “the provision of care, treatment, education, training, instruction, supervision, or recreation to children, the elderly, or individuals with disabilities.” Based on these statutory definitions, the Department and the National Center for Missing and Exploited Children (NCMEC) agree that the 90 Secondary School Student program sponsors designated by the Department to facilitate Secondary School Student exchange programs are eligible to apply to NCMEC for participation in the Child Safety Pilot Program, or a subsequent successor program, or as otherwise authorized by law. Each sponsor would be required to apply to NCMEC, who will review the application for sufficiency and will, in turn, recommend to the FBI that the sponsor be included in the Child Safety Pilot Program. The FBI has final approval authority. Should the Child Safety Pilot Program not be extended or made permanent, this regulatory provision, if adopted, would necessarily become null and void.

We additionally note in this regard that there is pending legislation, the Child Protection Improvements Act of 2009 (S. 163, H.R. 1469), that would amend the National Child Protection Act of 1993 to establish a permanent mechanism that would allow youth-serving organizations access to FBI fingerprint-based criminal background checks through a process similar to the one outlined above.

The NCMEC's FBI fingerprint-based criminal background check process has been well and successfully administered since 2003. It is the Department's understanding that NCMEC will comply with both FBI criminal history record security policy and the Privacy Act regarding the storage, dissemination and destruction of criminal history record information. The Department will work with NCMEC to develop a standard guideline for interpreting any results received from either the FBI fingerprint-based criminal background check or the name and social security number criminal background check. NCMEC would interpret/adjudicate any identified criminal history records according to this standard guideline and would provide to sponsors a “green light/red light” (yes/no) determination for each host family adult. No potential host family would be allowed to host a secondary school exchange students if any host family member receives a “red light” result from NCMEC.

As a related matter, the Department provides notice of and seeks specific comment regarding ink and paper versus electronic collection of fingerprints. Currently, NCMEC processes ink and paper fingerprints. In such a process, an individual's fingerprints are inked and rolled onto a blank paper card, which if taken correctly, must be scanned into an electronic file before they are uploaded to the FBI for processing. We have been advised that some 30-40% of all ink and paper fingerprints taken are unclassifiable, meaning the fingerprints obtained are not of sufficient quality to be electronically scanned for processing. In such a situation, a new set of fingerprints would need to be taken and resubmitted, causing significant delay in processing time. Additionally, potential host family adults may be inconvenienced with travel to a local police station or a fingerprinting service provider to be ink and paper fingerprinted.

An alternative collection method is through electronic fingerprinting, which the Department has discussed with NCMEC. We believe that this process yields a number of important advantages over the ink and paper fingerprinting process. First, while 30-40% of ink and paper fingerprints are unclassifiable, electronic fingerprints are unclassifiable only 1-1.5% of the time and can almost always be corrected in real-time, permitting electronic fingerprints not taken correctly to be flagged as incomplete or inaccurate and immediately retaken. A number of private electronic fingerprinting organizations exist throughout the United States that dispatch trained organizational representatives to potential host family homes to electronically fingerprint adult family members. The Department seeks specific comment from the public regarding the value of this type of criminal background check and these two alternative collection methods.

The Department recognizes that to be effective in the educational exchange environment, criminal background checks must be timely, cost-effective and not overly inconvenient for the host family. The Department recognizes that a higher cost is involved for an ink and paper FBI fingerprint-based criminal background check ($17.25 to $30.25 for the FBI fingerprint-based criminal background check plus any State or local government processing fees, which on average would bring the total cost to $70 per individual) than the cost for the currently performed private vendor social security number and name check (i.e. approximately $4 for many non-profit organizations). The total cost for the electronic fingerprinting process is estimated at approximately $300-$400 per host family for the private fingerprinting organization's representative to visit the host family, collect electronic fingerprints of all host family adults, transmit fingerprints to NCMEC for subsequent channeling of the fingerprints to the FBI, adjudicate any criminal record, and provide to sponsors a “green light/red light” (yes/no) determination as to the host family's ability to host an exchange visitor.

The Department is of the opinion that the safety of secondary school students invited to participate in this program outweighs the additional cost that may be incurred. Sponsors would be responsible for absorbing the cost of either the ink and paper or electronic collection process. We anticipate that this cost will be passed along to the exchange student as an additional program cost or will be absorbed by the sponsor. We specifically solicit and welcome comments regarding cost, both financial and in terms of staff resources, for the ink and paper and electronic FBI fingerprint-based criminal background checks.

Finally, the Department recognizes that a search of State criminal history record databases would provide an additional level of review and certainty of results. However, there is no uniform criminal history record database standard across the various State jurisdictions, no uniform practice in how States permit access to such repositories, and States vary substantially in how well they maintain and how frequently they update their criminal history repositories. Specifically, the June 2006 “Attorney General's Report on Criminal History Background Checks” explains that some States make their records available for non-criminal justice purposes “more broadly than others,” though other States are “limiting their use for non-criminal justice purposes to those specifically authorized by State law.” For many States, a separate statutory authority must be obtained for specific non-criminal justice criminal record searches. Given these parameters, the Department seeks specific comments regarding the feasibility and utility of also requiring State criminal history record checks.

6. Host Family Composition

The Department does not define what constitutes a family; however, we take administrative notice that a family is considered to be more than one person. To ensure the Secondary School Student program's integrity and original intent, the Department proposes that a potential single adult host parent must have:

• At least one school-aged child living full-time in the host family home; or

• A child that no longer resides in the host family home due to custody agreements but who returns to the family home for frequent visits; or

• A child pursuing higher-education studies but who returns to the family home for frequent visits.

No single adults will be allowed to host Secondary School Students. Only families comprised of one adult meeting the above standard or families comprised of at least two adults will be permitted to host Secondary School Students.

7. Local Coordinator Training Course

The Department recognizes that the exercise of good judgment by sponsors' local coordinators is the critical factor in ensuring a successful exchange program. Accordingly, in addition to the individual, organization-specific training conducted by the sponsor's; the Department proposes to adopt a testing and certification program for all local and regional coordinators to be administered by and paid for by the Department of State. This training will include instruction designed to provide a comprehensive understanding of the Exchange Visitor Program, its public diplomacy objectives, and the Secondary School Student category rules and regulations. The training conducted by the Department will also include instruction on conflict resolution; how to handle and report emergency situations; sexual conduct codes and appropriate responses; the criteria to be used in screening potential host families; and the exercise of good judgment in determining the suitability of a host family placement. Organizational-specific training may be rendered in a classroom setting, one-on-one, or via an online platform. If training is conducted online, the sponsor must demonstrate successful completion of the course by the local coordinator via an online test. The Department will review all training materials and will require that these materials be provided with the sponsor application for designation or redesignation. The Department additionally proposes that local coordinators be required to undergo annual certification each year following completion of the original training.

8. Number of Students and Host Families for Which a Local Coordinator May Be Responsible.

The Department, which has over 20 years' experience with limiting the responsibilities of local coordinators overseeing au pairs and their host families is considering limiting the number of student and host family placements that a local coordinator may oversee in the Secondary School Student category of exchange. The Department is seeking comments on whether it should establish a similar limit for the Secondary School Student program, and if so, what such limits should be for part-time versus a local coordinator working full-time.

Further, the Department proposes seven additional changes and/or clarifications to existing regulations that will provide greater specificity, and oversight improvements to better reflect what the Department deems to be current “best practices”. These proposed changes include:

9. Athletic Participation in the United States

Consistent with the purpose of participation in the Secondary School Student program, athletic eligibility or participation in an athletic program is not guaranteed. Approval for a foreign exchange student to participate in an athletic program must be authorized by the local school district in which the student is enrolled; and by the State authority responsible for determination of athletic eligibility, if applicable. The regulations are being clarified to reflect that an exchange student may not be selected and placed based on athletic ability.

10. Prohibition of Payments to Host Families

Historically, the Secondary School Student program has been carried out through the use of voluntary host families. However, in May 2008 the Department learned that some sponsors were compensating American families to host secondary school students. Existing regulations governing this category of exchange do not specifically address payment of host families. In response to concerns raised, the Department canvassed the Secondary School Student exchange community requesting their comment on this practice. At that time, there were 102 organizations designated by the Department to conduct Secondary School Student exchange programs. Fifty organizations provided comment. Of these, 4 indicated that they were currently paying host families and 6 believed that host families should be paid. The remaining 40 sponsors opposed the payment of host families, citing that paying host families would not serve the program well and that the long-term success of the current model is based on the relationship between the participant and the host family, the success of which is the result of an act of generosity and citizenship. The Department agreed and on July 22, 2008, published a Policy Notice that host families should not be paid for hosting exchange students. The Department is proposing that the prohibition of payment to host families be added to the regulations to ensure that the integrity of the program is maintained.

11. Clarification that the host family orientation is to be conducted after the host family application process has been completed and the host family has been fully vetted and accepted into the program.

12. A requirement that a visit to the host family home of the secondary school student be conducted, within two months of placement, by an organizational representative of the sponsor other than the local coordinator who screened and selected the host family and made the placement.

13. A requirement that no secondary school student placement be made beyond one hour's drive of the home of a local organizational representative, a change in an existing requirement that sets 120 miles as the maximum.

14. A clearer distinction between training and supervision requirements of officers, employees, representatives, agents, and volunteers acting on behalf of the sponsor.

15. A prohibition against removing secondary school students' government issued documents, personal computers and telephones from their possession; and

16. Adoption of standards ensuring that sponsors' promotional materials are professional, ethical, and accurately reflect the sponsor's purposes, activities, and sponsorship. Promotional materials should not compromise the privacy, safety or security of participants, families or schools. Specifically, sponsors must not include personal student data or contact information (including addresses, phone numbers or e-mail addresses) or photographs of the student on Web sites or other promotional materials. Sponsors would also ensure that access to student profiles is password protected and would only be available to potential host families who have been fully vetted and selected for program participation.

Administrative Procedure Act

The Department of State is of the opinion that the Exchange Visitor Program is a foreign affairs function of the U.S. Government and that rules implementing this function are exempt from section 553 (Rulemaking) and section 554 (Adjudications) of the Administrative Procedure Act (APA). The U.S. Government policy and longstanding practice, has supervised and overseen foreign nationals who come to the United States as participants in exchange visitor programs, either directly or through private sector program sponsors or grantees. When problems occur, the U.S. Government is often held accountable by foreign governments for the treatment of their nationals, regardless of who is responsible for the problems. The purpose of this rule is to protect the health and welfare of foreign nationals entering the United States (often on programs funded by the U.S. Government) for a finite period of time and with a view that they will return to their countries of nationality upon completion of their programs. The Department of State represents that failure to protect the health and welfare of these foreign nationals will have direct and substantial adverse effects on the foreign affairs of the United States. Although the Department is of the opinion that this rule is exempt from the rulemaking provisions of the APA, the Department is publishing this rule as a proposed rule, with a 30-day provision for public comment and without prejudice to its determination that the Exchange Visitor Program is a foreign affairs function.

Regulatory Flexibility Act/Executive Order 13272: Small Business

As discussed above, the Department believes that this proposed rule is exempt from the provisions of 5 U.S.C 553, and that no other law requires the Department to give notice of proposed rulemaking. Accordingly the Department believes that this proposed rule is not subject to the requirements of the Regulatory Flexibility Act (5 U.S.C. 601, et seq.) or Executive Order 13272, section 3(b). However, the Department has examined the costs and benefits associated with this proposed rule, and declare that educational and cultural exchanges are both the cornerstone of U.S. public diplomacy and an integral component of American foreign policy. The Secondary School Student exchange programs conducted under the authorities of the Exchange Visitor Program promote mutual understanding by providing foreign students the opportunity to study in American high schools while living with American host families. Not only are the students themselves transformed by these experiences, but so too are their families, friends and teachers in their home countries. By studying and participating in daily student life in the United States, Secondary School Student program participants gain an understanding of and an appreciation for the similarities and difference between their culture and that of the United States. Upon their return home, these students enrich their schools and communities with different perspectives of U.S. culture and events, providing local communities with new and diverse perspectives. Secondary School Student exchanges also foster enduring relationships and lifelong friendships which help build longstanding ties between the people of the United States and other countries. In reciprocal fashion, American secondary school students are provided opportunities to increase their knowledge and understanding of the world through these friendships. Participating schools gain from the experience of having international students in the classroom, at after-school activities, and in their communities. Though the benefits of these exchanges to the United States and its people cannot be monetized, the Department is nonetheless of the opinion that these benefits outweigh the costs associated with this proposed rule.

Further, the Department has examined the potential impact of this proposed rule on small entities. Entities conducting student exchange programs are classified under code number 6117.10 of the North American Industry Classification System. Some 5,573 for-profit and tax-exempt entities are listed as falling within this classification. Of this total number of so-classified entities, 1,226 are designated by the Department of State as sponsors of an exchange visitor program, designated as such to further the public diplomacy mission of the Department and U.S. Government through the conduct of people to people exchange visitor programs. Of these 1,226 Department designated entities, 933 are academic institutions and 293 are for-profit or tax-exempt entities. Of the 293 for-profit or tax-exempt entities designated by the Department, 131 have annual revenues of less than $7 million thereby falling within the purview of the Regulatory Flexibility Act. Thus, the Department finds that 2.3% of all organizations conducting student exchange programs are both designated by the Department as Exchange Visitor Program sponsors and also have annual revenues of less than $7 million. Although, as stated above, the Department is of the opinion that the Exchange Visitor Program is a foreign affairs function of the United States Government and, as such, that this proposed rule is exempt from the rulemaking provisions of section 553 of the APA, given the projected costs of this proposed rule discussed below and the number of entities conducting student exchange programs noted above, the Department has determined that this proposed rule will not have a significant economic impact on a substantial number of small entities.

Unfunded Mandates Reform Act of 1995

This proposed rule will not result in the expenditure by State, local and Tribal governments, in the aggregate, or by the private sector, of $100 million in any year and it will not significantly or uniquely affect small governments. Therefore, no actions were deemed necessary under the provisions of the Unfunded Mandates Reform Act of 1995.

Executive Order 13175—Consultation and Coordination With Indian Tribal Governments

The Department has determined that this rulemaking will not have Tribal implications, will not impose substantial direct compliance costs on Indian Tribal governments, and will not pre-empt Tribal law. Accordingly, the requirements of Section 5 of Executive Order 13175 do not apply to this rulemaking.

Small Business Regulatory Enforcement Fairness Act of 1996

This proposed rule is not a major rule as defined by 5 U.S.C. 804 for the purposes of Congressional review of agency rulemaking under the Small Business Regulatory Enforcement Fairness Act of 1996 (5 U.S.C. 801-808). This rule will not result in an annual effect on the economy of $100 million or more; a major increase in costs or prices; or significant adverse effects on competition, employment, investment, productivity, innovation, or on the ability of United States-based companies to compete with foreign-based companies in domestic and export markets.

Executive Order 12866

The Department of State does not consider this rule to be a “significant regulatory action” under Executive Order 12866, section 3(f), Regulatory Planning and Review. The Department is of the opinion that the Exchange Visitor Program is a foreign affairs function of the United States Government and that rules governing the conduct of this function are exempt from the requirements of Executive Order 12866. However, the Department has nevertheless reviewed this proposed regulation to ensure its consistency with the regulatory philosophy and principles set forth in that Executive Order.

The Department has identified potential costs associated with this proposed rule beginning with the proposed requirement that sponsors collect photographs documenting the exterior and interior of a potential host family home. Although many sponsors currently collect such photographs as part of the host family application and vetting process, not all designated sponsors do so. Those sponsors that do collect this photographic documentation find that the cost of doing so is not substantial as the photographs are taken by the local coordinator with digital cameras, uploaded electronically, and attached to the host family application that is in turn sent to the sponsor for evaluation and further vetting. For program sponsors not currently following this practice, the cost of doing so will be associated with the purchase of a digital camera for those local coordinators that do not own or have access to one. The Department does not believe this will be a substantial cost to sponsors.

The Department is necessarily of the opinion that all reasonable measures should be taken to ensure the placement of students in safe homes. Having adopted in 2006 a criminal background check required of all adults resident in a potential host family home, the Department now proposes to strengthen this requirement by expanding the criminal background check to include an FBI fingerprint-based criminal background check, a basic Social Security number and name check and a national Sex Offender registry check for all adult members resident in a potential host family home. The nationwide average for an ink and paper FBI fingerprint-based criminal background check is $70.00 per person. Approximately 60,000 checks will need to be performed at an aggregate cost of approximately $4.2 million. A possible second approach to the collection of these criminal background checks would involve-I home electronic fingerprinting of all adult members of a host family household. This process would involve the use of a contractor, with a national footprint, recognized and authorized by the FBI to collect and process electronic fingerprints. Estimated costs for this process would be $300-$400 per household with an aggregate cost of $8.4 million. The Department anticipates that these costs will be borne by the exchange student as an additional program cost or will be absorbed by the sponsor.

The Department also identifies the costs associated with the implementation of enhanced training for local coordinators, the individuals acting as agents of program sponsors in screening, selecting and monitoring host family placements. The Department will develop a training program for all local coordinators at a projected cost to the Department of $100,000. An additional cost of this proposed rule is the time required for these individuals to take this training. While some local coordinators receive payment for placing exchange students, others do not. In determining costs for required training, the Department places a value of $20 per hour on the time spent in taking this required training and thus finds that if all volunteers and agents (estimated at 4,000 individuals) spend three hours each taking the proposed training, then the aggregate cost would be approximately $240,000. Finally, the Department notes that there will be an increased cost arising from the proposed requirement that each host family home be visited within the first or second month of the student's placement in the home by a representative of the sponsor other than the local coordinator who screened and selected the host family and arranged the placement. The Department recognizes that the sponsor will utilize its existing local coordinator network and that the identifiable cost of this proposal will be related to the additional cost of travel for this sponsor representative, which the Department anticipates to not be substantial.

Executive Order 12988

The Department has reviewed this regulation in light of sections 3(a) and 3(b)(2) of Executive Order 12988 to eliminate ambiguity, minimize litigation, establish clear legal standards, and reduce burden.

Executive Orders 12372 and 13132

This regulation will not have substantial direct effects on the States, on the relationship between the national government and the States, or on the distribution of power and responsibilities among the various levels of government. Therefore, in accordance with section 6 of Executive Order 13132, it is determined that this rule does not have sufficient federalism implications to require consultations or warrant the preparation of a federalism summary impact statement. The regulations implementing Executive Order 12372 regarding intergovernmental consultation on Federal programs and activities do not apply to this regulation.

Paperwork Reduction Act

The information collection requirements contained in this proposed rulemaking are pursuant to the Paperwork Reduction Act, 44 U.S.C. Chapter 35 and OMB Control Number 1405-0147, Form DS-7000.

List of Subjects in 22 CFR Part 62

Cultural Exchange Program.

Accordingly, 22 CFR part 62 is proposed to be amended as follows:

PART 62—EXCHANGE VISITOR PROGRAM

1. The Authority citation for Part 62 is revised to read as follows:

Authority: 8 U.S.C. 1101(a)(15)(J), 1182, 1184, 1258; 22 U.S.C. 1431-1442, 2451 et seq.; Foreign Affairs Reform and Restructuring Act of 1998, Pub. L. 105-277, Div. G, 112 Stat. 2681 et seq.; Reorganization Plan No. 2 of 1977, 3 CFR, 1977 Comp. p. 200; E.O. 12048 of March 27, 1978; 3 CFR, 1978 Comp. p. 168; the Illegal Immigration Reform and Immigrant Responsibility Act (IIRIRA) of 1996, Pub. L. 104-208, Div. C, 110 Stat. 3009-546, as amended; Uniting and Strengthening America by Providing Appropriate Tools Required to Intercept and Obstruct Terrorism Act of 2001 (U.S.A. PATRIOT ACT), Pub. L. 107-56, Sec. 416, 115 Stat. 354; and the Enhanced Border Security and Visa Entry Reform Act of 2002, Pub. L. 107-173, 116 Stat. 543.

2. Section 62.25 is revised to read as follows:

§ 62.25 Secondary school students.

(a) Purpose. This section governs Department of State designated exchange visitor programs under which foreign secondary school students are afforded the opportunity to study in the United States at accredited public or private secondary schools for an academic semester or an academic year, while living with American host families or residing at accredited U.S. boarding schools. The secondary school student program is one of the Department's oldest and most effective means to foster enduring relationships between the people of the United States and other countries and is, accordingly, an integral component of U.S. public diplomacy and American foreign policy. By living with American host families and participating in daily student life in the United States, exchange students gain an understanding of and appreciation for the similarities and differences between their culture and that of the United States. The great majority of exchange students who come to the United States to attend high school enjoy a positive life-changing experience, grow in independence and maturity, improve their English language skills, and build relationships with U.S. citizens. The success of this program is dependent on the generosity of the American families who support this program by welcoming exchange students into their homes.

(b) Program sponsor eligibility. Eligibility for designation as a secondary school student exchange visitor program sponsor is limited to organizations:

(1) With tax-exempt status as conferred by the Internal Revenue Service pursuant to section 501(c)(3) of the Internal Revenue Code; and

(2) Which are United States citizens as such term is defined in § 62.2 of this part.

(c) Program eligibility. Secondary school student exchange visitor programs designated by the Department of State must:

(1) Require all exchange students to be enrolled and participating in a full course of study at an accredited educational institution;

(2) Allow entry of exchange students for not less than one academic semester (or quarter equivalency) and not more than two academic semesters (or quarter equivalency) duration; and

(3) Ensure that the program is conducted on a U.S. academic calendar year basis, except for students from countries whose academic year is opposite that of the United States. Exchange students may begin an exchange program in the second semester of a U.S. academic year only if specifically permitted to do so, in writing, by the school in which the exchange student is enrolled. In all cases, sponsors must notify both the host family and school prior to the exchange student's arrival in the United States that the placement is for either an academic semester, academic year, or for a calendar year.

(d) Program administration. Sponsors must ensure that all organizational officers, employees, representatives, agents, and volunteers acting on their behalf:

(1) Are adequately trained. All training must be applicable to the individual's position within the sponsor organization. A Department- administered training program will include instruction designed to provide a comprehensive understanding of the Exchange Visitor Program; its public diplomacy objectives; and the Secondary School Student category rules and regulations. The training component developed by sponsors for local coordinators must specifically include, at a minimum, instruction in conflict resolution; procedures for handling and reporting emergency situations; awareness or knowledge of child safety standards; information on sexual conduct codes; procedures for handling and reporting allegations of sexual misconduct or any other allegations of abuse or neglect; the criteria to be used to screen potential host families and exercising good judgment when identifying what constitutes suitable host family placements. Training may be rendered in classroom, one-on-one, or via an online platform. Sponsors must demonstrate the individual's successful completion of the training. All sponsor training materials must be submitted to the Department for review as part of the sponsor's application for designation or redesignation. Annual refresher training is required.

(2) Are adequately supervised. Sponsors must create and implement organization-specific standard operating procedures for the supervision of local coordinators designed to prevent or deter fraud, abuse, or misconduct in the performance of the duties of these employees/agents/volunteers. They must also have sufficient internal controls to ensure that such employees/agents/volunteers comply with such standard operating procedures.

(3) Have been vetted annually through an FBI fingerprint-based criminal background check, a basic name and Social Security number check, and a check of the National Sex Offender Registry and has accordingly received a “green light” response from the Child Safety Pilot Program as administered by the National Center of Missing and Exploited Children (NCMEC), or its subsequent successor program, or as otherwise authorized by law;

(4) Place no exchange student with his or her relatives;

(5) Make no exchange student placement beyond one hour's drive of the home of the local coordinator authorized to act on the sponsor's behalf in both routine and emergency matters arising from that exchange student's participation in the exchange visitor program;

(6) Make no monetary payments to host families;

(7) Provide exchange students with reasonable access to their natural parents and family by telephone and e-mail;

(8) Make certain that the exchange students' governmental issued documents (i.e. passports, Forms DS-2019), personal computers, and telephones are not removed from their possession;

(9) Conduct the host family orientation after the host family has been fully screened and selected;

(10) That no organizational representative acts as:

(i) Both a host family and a local coordinator or area supervisor for any exchange student participant;

(ii) A host family for one sponsor and a local coordinator for another sponsor; or

(iii) A local coordinator for any student over whom they have a position of trust or authority (i.e. a principal or teacher at a school where the student attends).

(11) Maintain, at minimum, a monthly schedule of personal contact with the exchange student. The first monthly contact by the local coordinator to the exchange student must be in person. All other contacts may take place in person, on the phone, or via electronic mail and must be properly documented. The sponsor is responsible for ensuring that issues raised through such contacts be promptly and appropriately addressed.

(12) That a sponsor representative other than the local coordinator who recruited, screened and selected the host family visit the exchange student/host family home within the first or second month following the student's placement in the home.

(13) Maintain, at a minimum, a monthly schedule of personal contact with the host family. At least once during the fall semester and at least once during the spring semester, (i.e. twice during the academic year) the contact by the local coordinator with the host family must be in person. All other contacts may take place in person, on the phone, or via electronic mail and must be properly documented. The sponsor is responsible for ensuring the issues raised through such contacts be promptly and appropriately addressed.

(14) That host schools are provided contact information for the local organizational representative (including name, direct phone number, and e-mail address) for the local organizational representative, the program sponsor, and the Department's Office of Designation; and

(15) Adhere to all regulatory provisions set forth in this Part and all additional terms and conditions governing program administration that the Department may impose.

(e) Student selection. In addition to satisfying the requirements of § 62.10(a), sponsors must ensure that all participants in a designated secondary school student exchange visitor program:

(1) Are secondary school students in their home countries who have not completed more than 11 years of primary and secondary study, exclusive of kindergarten; or are at least 15 years of age but not more than 18 years and six months of age as of the program start date;

(2) Demonstrate maturity, good character, and scholastic aptitude; and

(3) Have not previously participated in an academic year or semester secondary school student exchange program in the United States or attended school in the United States in either F-1 or J-1 visa status.

(f) Student enrollment. (1) Sponsors must secure prior written acceptance for the enrollment of any exchange student in a United States public or private secondary school. Such prior acceptance must:

(i) Be secured from the school principal or other authorized school administrator of the school or school system that the exchange student participant will attend; and

(ii) Include written arrangements concerning the payment of tuition or waiver thereof if applicable.

(2) Under no circumstance may a sponsor facilitate the entry into the United States of an exchange student for whom a written school placement has not been secured.

(3) Under no circumstance may a sponsor charge a student private school tuition if such arrangements are not finalized in writing prior to the issuance of Form DS-2019.

(4) Sponsors must maintain copies of all written acceptances for a minimum of three years and make such documents available for Department of State inspection upon request.

(5) Sponsors must provide the school with a translated “written English language summary” of the exchange student's complete academic course work prior to commencement of school, in addition to any additional documents the school may require. Sponsors must inform the prospective host school of any student who has completed secondary school in his/her home country.

(6) Sponsors may not facilitate the enrollment of more than five exchange students in one school unless the school itself has requested, in writing, the placement of more than five students from the sponsor.

(7) Upon issuance of a Form DS-2019 to a prospective participant, the sponsor accepts full responsibility for securing a school and host family placement for the student, except in cases of voluntary student withdrawal or visa denial.

(g) Student orientation. In addition to the orientation requirements set forth at § 62.10, all sponsors must provide exchange students, prior to their departure from the home country, with the following information:

(1) A summary of all operating procedures, rules, and regulations governing student participation in the exchange visitor program along with a detailed summary of travel arrangements;

(2) A copy of the Department's Welcome letter to exchange students;

(3) Age and language appropriate information on how to identify and report sexual abuse or exploitation;

(4) A detailed profile of the host family with whom the exchange student will be placed. The profile must state whether the host family is either a permanent placement or a temporary-arrival family;

(5) A detailed profile of the school and community in which the exchange student will be placed. The profile must state whether the student will pay tuition; and

(6) An identification card, which lists the exchange student's name, United States host family placement address and telephone numbers (landline and cellular), sponsor name and main office and emergency telephone numbers, name and telephone numbers (landline and cellular) of the local coordinator and area representative, the telephone number of Department's Office of Designation, and the Secondary School Student program toll free emergency telephone number. The identification card must also contain the name of the health insurance provider and policy number. Such cards may be provided in advance of home country departure or immediately upon entry into the United States but must be corrected, reprinted and reissued to the student if changes in contact information occur due to a change in the student's placement.

(h) Student extra-curricular activities. Exchange students may participate in school sanctioned and sponsored extra-curricular activities, including athletics, if such participation is:

(1) Authorized by the local school district in which the student is enrolled; and

(2) Authorized by the State authority responsible for determination of athletic eligibility, if applicable. Sponsors shall not knowingly be party to a placement (inclusive of direct placements) based on athletic abilities, whether initiated by a student, a natural or host family, a school, or any other interested party. Any placement in which either the student or the sending organization in the foreign country is party to an arrangement with any other party, including receiving school personnel, whereby the student will attend a particular school or live with a particular host family must be reported to the particular school and the National Federation of State High School Associations prior to the first day of classes.

(i) Student employment. Exchange students may not be employed on either a full or part-time basis but may accept sporadic or intermittent employment such as babysitting or yard work.

(j) Host family application and selection. Sponsors must adequately screen and select all potential host families and at a minimum must:

(1) Provide potential host families with a detailed summary of the Exchange Visitor Program and of their requirements, obligations and commitment to host;

(2) Utilize a standard application form developed by the sponsor. Such application form must be signed and dated at the time of application by all adults living in the home of a potential host family. The host family application must be designed to provide a detailed summary and profile of the host family, the physical home environment (to include photographs of the host family home's exterior and grounds, kitchen, student's bedroom, bathroom, and family and living areas), family composition, and community environment. Exchange students are not permitted to reside with their relatives.

(3) Conduct an in-person interview with all family members residing in the home where the student will be living;

(4) Ensure that the host family is capable of providing a comfortable and nurturing home environment and that the home is clean and sanitary; that the exchange student's bedroom contains a separate bed for the student that is neither convertible nor inflatable in nature; and that the student has adequate storage space for clothes and personal belongings, reasonable access to bathroom facilities, study space if not otherwise available in the house and reasonable, unimpeded access to the outside of the house in the event of a fire or similar emergency. An exchange student may share a bedroom, but with no more than one other individual of the same sex.

(5) Ensure that the host family has a good reputation and character by securing two personal references from within the community from individuals who are not relatives of the potential host families or representatives of the sponsor (i.e., field staff or volunteers), attesting to the host family's good reputation and character;

(6) Ensure that the host family has adequate financial resources to undertake hosting obligations and is not receiving needs-based government subsidies for food or housing.

(7) Verify that each member of the host family household 18 years of age and older, as well as any new adult member added to the household, or any member of the host family household who will turn eighteen years of age during the exchange student's stay in that household, has undergone an FBI fingerprint-based criminal history record information background check, a basic name and social security number check, and a check of the National Sex Offender Registry, and has accordingly received a “green light” response from the Child Safety Pilot Program as administered by the National Center of Missing and Exploited Children (NCMEC), or its subsequent successor program, or as otherwise authorized by law;

(8) Maintain a record of all documentation on a student's exchange program, including but not limited to application forms, background checks, evaluations, and interviews, for all selected host families for a period of three years following program completion; and

(9) Ensure that a potential single adult host parent has at least one school-aged child living full-time in the host family home, a child that no longer resides in the host family home due to custody agreements but who returns to the family home for frequent visits, or a child pursuing higher-education studies but who returns to the family home for frequent visits.

(k) Host family orientation. In addition to the orientation requirements set forth in § 62.10, sponsors must:

(1) Inform all host families of the philosophy, rules, and regulations governing the sponsor's exchange visitor program, including examples of “best practices” developed by the exchange community;

(2) Provide all selected host families with a copy of the Department's letter of appreciation to host families;

(3) Provide all selected host families with a copy of Department of State-promulgated Exchange Visitor Program regulations and a copy of the Department of State letter to exchange student host families;

(4) Advise all selected host families of strategies for cross-cultural interaction and conduct workshops to familiarize host families with cultural differences and practices; and

(5) Advise host families of their responsibility to inform the sponsor of any and all material changes in the status of the host family or student, including, but not limited to, changes in address, finances, employment and criminal arrests.

(l) Host family placement. (1) Sponsors must secure, prior to the student's departure from his or her home country, a permanent or arrival host family placement for each exchange student participant. Sponsors may not:

(i) Facilitate the entry into the United States of an exchange student for whom a host family placement has not been secured;

(ii) Place more than one exchange student with a host family without the express prior written consent of the host family, the natural parents, and the students being placed. Under no circumstance may more than two exchange students be placed with one host family, or with one local coordinator, regional coordinator, or volunteer.

(2) Prior to the student's departure from his/her home country, sponsors must advise both the exchange student and host family, in writing, of the respective family compositions and backgrounds of each, whether the host family placement is a permanent or arrival placement, and facilitate and encourage the exchange of correspondence between the two.

(3) In the event of unforeseen circumstances which necessitate a change of host family placement, the sponsor must document the reason(s) necessitating such change and provide the Department of State with an annual statistical summary reflecting the number and reason(s) for such change in host family placement in the program's annual report.

(m) Advertising and Marketing for the recruitment of host families.—In addition to the requirements set forth in 62.9(d) in advertising and promoting for host family recruiting, sponsors must:

(1) Utilize only promotional materials that professionally, ethically, and accurately reflect the sponsors purposes, activities, and sponsorship;

(2) Not publicize the need for host families via any public media with announcements, notices, advertisements, etc. that are not sufficiently in advance of the exchange student's arrival, appeal to public pity or guilt, imply in any way that an exchange student will be denied participation if a host family is not found immediately, or identify photos of individual exchange students and include an appeal for an immediate family;

(3) Not promote or recruit for their programs in any way that compromises the privacy, safety or security of participants, families, or schools. Specifically, sponsors shall not include personal student data or contact information (including addresses, phone numbers or e-mail addresses) or photographs of the student on Web sites or other promotional materials; and

(4) Ensure that access to exchange student photographs and personally identifying information on line or in print form are password protected and only made available to potential host families who have been fully vetted and selected.

(n) Reporting requirements. Along with the annual report required by regulations set forth at § 62.15, sponsors must file with the Department of State the following information:

(1) Sponsors must immediately report to the Department any incident or allegation involving the actual or alleged sexual exploitation or any other allegations of abuse or neglect of an exchange student. Sponsors must also report such allegations as required by local or State statute or regulation. Failure to report such incidents to the Department and, as required by State law or regulation, to local law enforcement authorities shall be grounds for the suspension and revocation of the sponsor's Exchange Visitor Program designation.

(2) A report of all final academic year and semester program participant placements by August 31 for the upcoming academic year or January 15 for the Spring semester and calendar year. The report must be in the format directed by the Department and must include at a minimum, the exchange student's full name, Form DS-2019 number (SEVIS ID #), host family placement (current U.S. address), school (site of activity) address, the local coordinator's name and zip code, and other information the Department may request.

(3) A report of all situations which resulted in the placement of an exchange student with more than one host family or in more than one school. The report must be in a format directed by the Department and include, at a minimum, the exchange student's full name, Form DS-2019 number (SEVIS ID #), host family placements (Current U.S. address), schools (site of activity addresses), the reason for the change in placement, and the date of the move.

3. A new Appendix F is added to Part 62 to read as follows:

Appendix F to Part 62—Suggested Information To Be Collected on Secondary School Student Host Family Applications

Basic Family Information

a. Host Family Member—Full name and relationship (children and adults) either living full-time or part-time in the home or who frequently stay at the home).

b. Date of Birth (DOB) of all family members.

c. Street Address.

d. Contact information (telephone; e-mail address) of host parents.

e. Employment—employer name, job title, and point of contact for each working resident of the home.

f. Is the residence the site of a functioning business? (e.g., daycare, farm)

g. Description of each household member (e.g., level of education, profession, interests, community involvement, and relevant behavioral or other characteristics of such household members that could affect the successful integration of the exchange visitor into the household).

h. Has any member of your household been charged with any crime?

Household Pets

a. Type of Pets.

b. Number of Pets.

Financial Resources

a. Average Annual Income Range: Less than $25,000; $25,000-$35,000; $35,000-$45,000; $45,000-$55,000; $55,000-$65,000; $65,000-$75,000; and $75,000 and above.

b. Describe if anyone residing in the home receives any kind of public assistance (financial needs-based government subsidies for food or housing).

c. Identify those personal expenses expected to be covered by the student.

Diet

a. Does anyone in the family follow any dietary restrictions? (Y/N)

If yes, describe:

b. Do you expect the student to follow any dietary restrictions? (Y/N)

If yes, describe:

c. Would you feel comfortable hosting a student who follows a particular dietary restriction (ex. Vegetarian, Vegan, etc.)? (Y/N)

d. Would the family provide three (3) square meals daily?

High School Information

a. Name and address of school (private or public school).

b. Name, address, e-mail and telephone number of school official.

c. Approximate size of the school student body.

d. Approximate distance between the school and your home.

e. Approximate start date of the school year.

f. How will the exchange student get to the school (e.g. bus, carpool, walk)?

g. Would the family provide special transportation for extracurricular activities after school or in the evenings, if required?

h. Which, if any, of your family's children, presently attend the school in which the exchange visitor is enrolled?

If applicable list sports/clubs/activities, if any, your child(ren) participate(s) in at the school.

i. Does any member of your household work for the high school in a coaching/teaching/or administrative capacity?

j. Has any member of your household had contact with a coach regarding the hosting of an exchange student with particular athletic ability?

If yes, please describe the contact and sport.

Community Information

a. In what type of community do you live (e.g.: Urban, Suburban, Rural, Farm).

b. Population of community.

c. Nearest Major City (Distance and population).

d. Nearest Airport (Distance).

e. City or town Web site.

f. Briefly describe your neighborhood and community.

g. What points of interest are near your area (parks, museums, historical sites)?

h. Areas in or near neighborhood to be avoided?

Home Description

a. Describe your type of home (e.g., single family home, condominium, duplex, apartment, mobile home) and include photographs of the host family home's exterior and grounds, kitchen, student's bedroom, student's bathroom, and family and living areas.

b. Describe Primary Rooms and Bedrooms.

c. Number of Bathrooms.

d. Will the exchange student share a bedroom? (Y/N)

If yes, with which household resident?

e. Describe the student's bedroom.

f. Describe amenities that student has access to.

g. Utilities.

Family Activities

a. Language spoken in home.

b. Please describe activities and/or sports each family members participate in:

(e.g., camping, hiking, dance, crafts, debate, drama, art, music, reading, soccer, baseball, horseback riding).

c. Describe your expectations regarding the responsibilities and behavior of the student while in your home (e.g., homework, household chores, curfew (school night and weekend), access to refrigerator and food, drinking of alcoholic beverages, driving, smoking, computer/Internet/E-Mail).

d. Would you be willing voluntarily to inform the exchange visitor in advance of any religious affiliations of household members? (Y/N)

e. Would any member of the household have difficulty hosting a student whose religious beliefs were different from their own? (Y/N) Note: A host family may want the exchange visitor to attend one or more religious services or programs with the family. The exchange visitor cannot be required to do so, but may decide to experience this facet of U.S. culture at his or her discretion.

f. How did you learn about being a host family?

Dated: April 26, 2010.
Stanley S. Colvin,
Deputy Assistant Secretary for Private Sector Exchange, Bureau of Educational and Cultural Affairs, U.S. Department of State.

[FR Doc. 2010-10168 Filed 4-30-10; 8:45 am]

BILLING CODE 4710-05-P